DEPARTMENT OF DEFENSE

GENERAL SERVICES ADMINISTRATION

NATIONAL AERONAUTICS AND SPACE ADMINISTRATION

48 CFR Parts 1, 7, 25, 44, and 52

FAR Case 2018-002, Docket No. FAR-2018-0051, Sequence No. 1]

RIN 9000-AN62

Federal Acquisition Regulation: Protecting Life in Global Health Assistance

AGENCY: Department of Defense (DoD), General Services Administration (GSA), and National Aeronautics and Space Administration (NASA).

ACTION: Proposed rule; withdrawal.

SUMMARY: DoD, GSA, and NASA are withdrawing the proposed rule to amend the Federal Acquisition Regulation (FAR) titled: Protecting Life in Global Health Assistance. The decision not to proceed with a final rule has been made because the Presidential Memorandum regarding “The Mexico City Policy,” dated January 23, 2017, has been revoked by the Memorandum on Protecting Women's Health at Home and Abroad issued by President Biden on January 28, 2021. Accordingly, this proposed rule is withdrawn, and the FAR case is closed.

DATES: The proposed rule published on September 14, 2020, at 85 FR 56549 is withdrawn as of March 19, 2021.

FOR FURTHER INFORMATION CONTACT: FAR Policy, at 202-969-4075 or farpolicy@gsa.gov. Please cite “FAR Case 2018-002”.

SUPPLEMENTARY INFORMATION: On September 14, 2020, DoD, GSA, and NASA proposed to amend the FAR to implement the Presidential Memorandum regarding “The Mexico City Policy,” issued on January 23, 2017. The Secretary of State approved on May 9, 2017, a plan, called “Protecting Life in Global Health Assistance” (PLGHA), to specify the manner in which U.S. Government Departments and Agencies will apply the provision of the “Mexico City Policy” to foreign non-governmental organizations that receive U.S. funding for global health assistance. The rule proposed amendments to limit the foreign contractors eligible to receive global health assistance funding to only those that agree to abide by the terms of the PLGHA policy in their contract or subcontract.

On January 28, 2021, the Memorandum on Protecting Women's Health at Home and Abroad was issued by President Biden which revoked the Presidential Memorandum regarding “The Mexico City Policy.” Accordingly, the proposed rule published at 85 FR 56549 on September 14, 2020, is withdrawn and FAR Case 2018-002 is closed.

List of Subjects in 48 CFR Parts 1, 7, 25, 44, and 52

Government procurement.

William F. Clark,
Director, Office of Government-wide Acquisition Policy, Office of Acquisition Policy, Office of Government-wide Policy.

[FR Doc. 2021-05661 Filed 3-18-21; 8:45 am]

BILLING CODE 6820-EP-P